DEPARTMENT OF HOMELAND SECURITY

U.S. Citizenship and Immigration Services

[CIS No. 2388-06; USCIS-2006-0018]

RIN 1615-ZA35

Extension of the Designation of Temporary Protected Status for Somalia; Automatic Extension of Employment Authorization Documentation for Somalia TPS Beneficiaries

AGENCY: U.S. Citizenship and Immigration Services, Department of Homeland Security.

ACTION: Notice of extension of temporary protected status for Somalia.

SUMMARY: The designation of Somalia for Temporary Protected Status (TPS) will expire on September 17, 2006. This Notice informs the public that the TPS designation for Somalia has been extended for 18 months, until March 17, 2008, and sets forth procedures for nationals of Somalia (or aliens having no nationality who last habitually resided in Somalia) with TPS to re-register and to apply for an extension of their Employment Authorization Documents (EADs) for the additional 18-month period. Re-registration is limited to persons who have previously registered for TPS under the designation of Somalia and whose application was granted or remains pending. Certain nationals of Somalia (or aliens having no nationality who last habitually resided in Somalia) who have not previously applied for TPS may be eligible to apply under the late initial registration provisions.

Given the timeframes involved with processing TPS re-registrants, the Department of Homeland Security (DHS) recognizes that many re-registrants may not receive a new EAD until after their current EAD expires on September 17, 2006. Accordingly, this Notice automatically extends the validity of EADs issued under the TPS designation of Somalia for six months until March 17, 2007, and explains how TPS beneficiaries and their employers may determine which EADs are automatically extended.

DATES: Effective Dates: The extension of Somalia's TPS designation is effective September 17, 2006, and will remain in effect until March 17, 2008. The 60-day re-registration period begins July 27, 2006 and will remain in effect until September 25, 2006.

FOR FURTHER INFORMATION CONTACT: Matthew Horner, Status and Family Branch, Service Center Operations, U.S. Citizenship and Immigration Services, Department of Homeland Security, 20 Massachusetts Avenue, NW., 2nd Floor, Washington, DC 20529, telephone (202) 272-1505. This is not a toll free number.

SUPPLEMENTARY INFORMATION:

Abbreviations and Terms Used in This Document

Act—Immigration and Nationality Act.

ASC—USCIS Application Support Center.

DHS—Department of Homeland Security.

DOS—Department of State.

EAD—Employment Authorization Document.

Secretary—Secretary of Homeland Security.

TPS—Temporary Protected Status.

USCIS—U.S. Citizenship and Immigration Services.

What Authority Does the Secretary of Homeland Security Have to Extend the Designation of Somalia for TPS?

Under section 244 of the Immigration and Nationality Act (Act), 8 U.S.C. 1254a, the Secretary of Homeland Security, after consultation with appropriate agencies of the Government, is authorized to designate a foreign state (or part thereof) for TPS. 8 U.S.C. 1254a(b)(1). The Secretary may then grant TPS to eligible nationals of that foreign state (or aliens having no nationality who last habitually resided in that state). 8 U.S.C. 1254a(a)(1)(A).

At least 60 days before the expiration of the TPS designation, or any extension thereof, the Secretary, after consultation with appropriate agencies of the Government, must review the conditions in a foreign state designated for TPS to determine whether the conditions for a TPS designation continue to be met and, if so, the length of an extension of the TPS designation. 8 U.S.C. 1254a(b)(3)(A). If the Secretary determines that the foreign state no longer meets the conditions for TPS designation, he must terminate the designation. 8 U.S.C. 1254a(b)(3)(B).

Why Did the Secretary of Homeland Security Decide to Extend the Designation of Somalia for TPS?

On September 16, 1991, the Attorney General published a Notice in the Federal Register designating Somalia for TPS due to extraordinary and temporary conditions resulting from an ongoing armed conflict. 56 FR 46804. The Attorney General extended this TPS designation annually, determining in each instance that the conditions warranting such designation continued to be met. 57 FR 32232, 58 FR 48898, 59 FR 43359, 60 FR 39005, 61 FR 39472, 62 FR 41421, 63 FR 51602, 64 FR 49511, 65 FR 69789. On September 4, 2001, the Attorney General re-designated Somalia based upon extraordinary and temporary conditions resulting from the armed conflict and lack of functioning state institutions. 66 FR 46288. Since that date, the Attorney General or Secretary of DHS has extended Somalia's TPS designation annually, determining in each instance that the conditions warranting such designation continued to be met. 67 FR 48950, 68 FR 43147, 69 FR 47937, 70 FR 43895. The most recent extension became effective on September 17, 2005, and is due to expire at midnight on September 17, 2006.

Since the date of the current extension, DHS and the Department of State (DOS) have continued to review conditions in Somalia, which remain dire. DOS submitted a memorandum (“DOS Recommendation”) to USCIS recommending the extension of TPS for Somalia. Based on this review, an 18-month extension of the TPS designation is warranted because the armed conflict and extraordinary and temporary conditions that prompted designation persist. Further, it is not contrary to the national interest of the United States to permit aliens who are eligible for TPS to remain temporarily in the United States. 8 U.S.C. 1254a(b)(1)(C).

Somalia has persisted in a state of chaos since the fall of the Siad Barre regime in January 1991, characterized by the lack of central government, a crippled economy, the absence of civil structures, and the destruction of infrastructure (“DOS Recommendation”). Generalized “insecurity” persists in the form of banditry, kidnapping, looting, revenge killings, targeted assassinations, and inter-clan fighting. Id. The result has been population displacement, loss of livelihoods, food “insecurity,” and a total lack of government services. Id. The current security situation generally prevents Somalis from repatriating in safety. Id. Major regions of the country are under the control of self-proclaimed “governors,” or warlords, in the absence of any rule of law. Id. The capital, Mogadishu, has been divided into armed zones controlled by a dozen factional leaders and two attempts were made there on the life of the prime minister. (USCIS Office of Refugee, Asylum and International Operations Report, June 21, 2006 (“ORAIO Report”)). By mid-June 2006, Islamic Court militias assumed control of Mogadishu and a swath of southern Somalia. Id. It is unclear how the Islamic Court militias will work with the Transitional Government or how the militias will respond to the positioning of Ethiopian troops along its shared border. Id.

Although the signing of the Aden Declaration on January 5, 2006, which culminated in the convening of 211 of the 275 members of Parliament, improved the prospect for peace, the peace process remains vulnerable. (DOS Recommendation). Problems that persist include a violent political power struggle, extremist activity in Mogadishu, a severe drought and famine, and violent clashes over scarce water, land, and grazing rights. Id.

The United Nations (UN) Somalia country team, which consists of the heads of the relevant UN humanitarian aid offices present in Somalia and the surrounding region, reported that Somalia is plagued by extreme levels of suffering. Id. Polio has reappeared and there are presently more war-wounded people living in Somalia than in any other African country. Id. The number of people directly affected by this humanitarian emergency situation is 915,000. Id. The UN High Commissioner for Refugees reported that there were 407,060 internally displaced persons (IDPs) in Somalia, of which 250,000 are located in the capital, Mogadishu. (ORAIO Report). Severe drought and localized conflicts during 2005 necessitated urgent humanitarian assistance during the first half of 2006 for an estimated additional 1.7 million Somalis (out of a total population of 7 million). Id.

Based upon this review, the Secretary of Homeland Security, after consultation with appropriate Government agencies, finds that the conditions for designation of Somalia for TPS continue to be met. See 8 U.S.C. 1254a(b)(3)(A) (describing procedures for periodic review of TPS designations). There is an ongoing armed conflict and extraordinary and temporary conditions in Somalia that prevent aliens who are nationals of Somalia (or aliens having no nationality who last habitually resided in Somalia) from returning in safety. The Secretary also finds that permitting these aliens who meet the TPS eligibility requirements to remain temporarily in the United States is not contrary to the national interest of the United States. See 8 U.S.C. 1254a(b)(1)(A) (describing ongoing armed conflict); 1254a(b)(1)(C) (describing extraordinary and temporary terms of TPS). On the basis of these findings and determinations, the Secretary will exercise his discretion to extend the TPS designation of Somalia for an 18-month period. See 8 U.S.C. 1254a(b)(3)(C) (providing the Secretary of Homeland Security with discretion to determine the length of an extension).

If I Currently Have Benefits Through the Designation of Somalia for TPS and Would Like to Maintain Them, Do I Need to Re-Register for TPS?

Yes. If you already have received TPS benefits through the designation of Somalia for TPS, your benefits will expire on September 17, 2006. All TPS beneficiaries must comply with the re-registration requirements described below to maintain TPS benefits through March 17, 2008. TPS benefits include temporary protection against removal from the United States, as well as employment authorization, during the TPS designation period. 8 U.S.C. 1254a(a)(1), 1254a(f). Failure to re-register without good cause will result in the withdrawal of your temporary protected status and possibly your removal from the United States. 8 U.S.C. 1254a(c)(3)(C). In addition, all EADs issued pursuant to this designation will expire on September 17, 2006. TPS beneficiaries who fail to re-register will not be issued a new EAD valid through March 17, 2008.

If I Am Currently Registered for TPS or Have a Pending Application for TPS, How Do I Re-Register to Renew My Benefits for the Duration of the Extension Period?

All persons previously granted TPS under the designation of Somalia who would like to maintain such status and those whose applications remain pending but who wish to renew their benefits, must re-register by filing the following:

(1) Form I-821, Application for Temporary Protected Status, without fee;

(2) Form I-765, Application for Employment Authorization (see the chart below to determine whether you must submit the one hundred and eighty dollar ($180) filing fee with Form I-765 (for which a fee waiver may be requested));

(3) A biometric services fee of seventy dollars ($70) if you are 14 years of age or older, or if you are under 14 and requesting an EAD extension. The biometric services fee will not be waived. 8 CFR 103.2(e)(4)(i), (iii); and

(4) A photocopy of the front and back of your EAD if you received an EAD during the most recent registration period.

When filing Form I-821, it is important to place your Alien Registration Number on your application. You may find your Alien Registration Number, also known as “A#,” listed below your name on your EAD. In addition, please note that you do not need to submit photographs with your TPS application because a photograph will be taken, if needed, when you are requested to appear at an USCIS Application Support Center (ASC) for collection of biometrics.

Aliens who have previously registered for TPS but whose applications remain pending should follow these instructions if they wish to renew their TPS benefits. All TPS re-registration applications submitted without the required fees will be returned to the applicants.

What Edition of the Form I-821 Should be Submitted?

Form I-821 has been revised. Only Forms I-821 with revision dates of November 5, 2004 or later will be accepted. The revision date can be found on the bottom right corner of the form. Submissions of older versions of Form I-821 will be rejected. You may obtain immigration forms, free of charge, on the Internet at http://www.uscis.gov or by calling the USCIS forms hotline at 1-800-870-3676.

Who Must Submit the $180 Filing Fee for the Form I-765, Application for Employment Authorization?

If | Then
You are applying for an extension of your EAD valid until March 17, 2008 | You must complete and file the Form I-765, Application for Employment Authorization, with the $180 fee.
You are not applying for an extension of your EAD | You must complete and file Form I-765 (for data-gathering purposes only) with no fee.
You are applying for a TPS-related EAD under the late initial registration provisions and are under age 14 or over age 65 | You must complete and file Form I-765 (for data-gathering purposes only) with no fee.
You are applying for an extension of your EAD and are requesting a fee waiver | You must complete and file: 1) Form I-765 and 2) a fee waiver request and affidavit (and any other supporting information) in accordance with 8 CFR 244.20.

Who Must Submit the $70 Biometric Services Fee?

The $70 biometric services fee must be submitted by all aliens 14 years of age and older who: (1) Have previously been granted TPS and are now re-registering for TPS; (2) have an initial application for TPS currently pending, have an EAD bearing the notification “C-19” on the face of the card under “Category” and wish to renew temporary treatment benefits; or (3) are applying for TPS under the late initial registration provisions. In addition, any alien, including one who is under the age of 14, choosing to apply for a new EAD or an extension of an EAD must submit the $70 biometric services fee. This biometric services fee will not be waived. 8 CFR 103.2(e)(4)(i), (iii).

When Should I Submit My Re-Registration Application for TPS?

Applications must be filed during the 60-day re-registration period from July 27, 2006 until September 25, 2006. You are encouraged to file the application as soon as possible after the start of the 60-day re-registration period.

Where Should I Submit My Re-Registration Application for TPS?

To facilitate efficient processing, USCIS has designated two post office (P.O.) boxes with the Chicago Lockbox for the filing of TPS applications. The type of TPS re-registration application you submit will determine the P.O. Box where your application must be submitted. Certain applications for TPS re-registration may also be electronically filed or “E-Filed” as well. See below for further filing instructions. Please note that applications should not be filed with a USCIS Service Center or District Office. Failure to file your application properly may result in the delay of the processing of your application.

Category 1: Applications for re-registration that do not require the submission of additional documentation or a renewal of temporary treatment benefits must either be E-Filed (see below) or filed at this address: U.S. Citizenship and Immigration Services, P.O. Box 6943, Chicago, IL 60680-6943.

Or, for non-United States Postal Service (USPS) deliveries: U.S. Citizenship and Immigration Services, Attn: TPS—Somalia, 427 S. LaSalle—3rd Floor, Chicago, IL 60605-1029.

E-Filing Your Application: If your application falls into Category 1 you are strongly encouraged to E-File your application. During the re-registration period from July 27, 2006 to September 25, 2006, aliens re-registering for TPS under this designation may file the Forms I-821 and I-765 and associated fees electronically by using E-Filing at the USCIS Internet site, http://www.uscis.gov. In order to properly re-register using E-Filing, aliens must begin the E-Filing process by completing Form I-821 online. After the Form I-821 is completed, the system will then automatically link the alien to Form I-765.

Aliens re-registering for TPS after September 25, 2006 and/or whose application falls into Category 2 (explained below) may not E-File and must send their application materials to the USCIS Chicago Lockbox at the address listed below.

Category 2: Aliens who are filing a re-registration application that requires the submission of additional documentation or who are filing for TPS for the first time as a late initial registrant must file at the P.O. Box listed below: U.S. Citizenship and Immigration Services, P.O. Box 8677, Chicago, IL 60680-8677.

Or, for non-United States Postal Service (USPS) deliveries: U.S. Citizenship and Immigration Services, Attn: TPS—Somalia—[EOIR/Additional Documents] or [Late Initial Registrant], 427 S. LaSalle—3rd Floor, Chicago, IL 60605-1029.

Note: Please make sure to use either EOIR/Additional Documents or Late Initial Registrant on the “Attn:” line, as appropriate, after “Somalia,” above.

Applications for re-registration require the submission of supporting documentation under the following circumstances:

(A) If one or more of the questions listed in Part 4, Question 2 of Form I-821 apply to the alien, then the alien must submit an explanation, on a separate sheet(s) of paper, and/or additional documentation.

(B) If the alien was granted TPS by an Immigration Judge or the Board of Immigration Appeals, then the alien must include evidence of the grant of TPS (such as an order from the Executive Office for Immigration Review (EOIR)) with his or her application package.

Category 2 applications may not be E-Filed.

Are Certain Aliens Ineligible for TPS?

Yes. There are certain criminal and security-related inadmissibility grounds that render an alien ineligible for TPS. 8 U.S.C. 1254a(c)(2)(A)(iii). Further, aliens who have been convicted of any felony or two or more misdemeanors committed in the United States are ineligible for TPS under section 244(c)(2)(B)(i) of the Act, as are aliens described in the bars to asylum in section 208(b)(2)(A) of the Act. 8 U.S.C. 1254a(c)(2)(B)(i)-(ii), 1158(b)(2)(A). Aliens should also note that an individual granted TPS will have his or her TPS withdrawn if the alien was not in fact eligible for TPS, fails without good cause to timely re-register, or, with some exceptions, fails to maintain continuous physical presence in the United States from the date the alien first was granted TPS. 8 U.S.C. 1254a(c)(3)(A)-(C).

Am I Eligible to Receive an Automatic Extension of My EAD From September 17, 2006, to March 17, 2007?

To receive an automatic extension of your EAD, you must be a national of Somalia (or an alien having no nationality who last habitually resided in Somalia) who has applied for and received an EAD under the TPS designation for Somalia and who has not had TPS withdrawn or denied. This automatic extension is limited to EADs (1) issued on Form I-766, Employment Authorization Document, (2) bearing an expiration date of September 17, 2006, and (3) bearing the notation “A-12” or “C-19” on the face of the card under “Category”.

If I Am Currently Registered for TPS Under the Designation for Somalia and Am Re-Registering for TPS, How Do I Receive an Extension of My EAD after the 6-Month Automatic Extension Expires?

TPS re-registrants will receive a notice in the mail with instructions to appear at an ASC for biometrics collection. When you report to the ASC, you must bring the following documents: (1) Your receipt notice for your re-registration application; (2) your ASC appointment notice; and (3) your current EAD. If no further action is required for your case, you will receive a new EAD, valid until March 17, 2008, through the mail. If your case requires further resolution, USCIS will contact you in writing to explain what additional information, if any, is necessary to resolve your case. If your re-registration application is approved, you will receive a new EAD in the mail with an expiration date of March 17, 2008.

May I Request an Interim EAD at My Local District Office?

No. USCIS will not issue interim EADs to TPS applicants and re-registrants at District Offices.

How May Employers Determine Whether an EAD Has Been Automatically Extended for Six Months through March 17, 2007, and is Therefore Acceptable for Completion of the Form I-9?

For purposes of verifying identity and employment eligibility or re-verifying employment eligibility on the Form I-9 until March 17, 2007, employers of Somali TPS beneficiaries whose EADs have been automatically extended by this Notice must accept the EAD if presented. An EAD that has been automatically extended for six months by this Notice to March 17, 2007, will actually contain an expiration date of September 17, 2006, and must be a Form I-766 bearing the notation “A-12” or “C-19” on the face of the card under “Category.” New EADs showing the March 17, 2007, expiration date of the six-month automatic extension will not be issued.

Employers should not request proof of Somali citizenship. If presented with an EAD that has been extended pursuant to this Federal Register Notice and that reasonably appears on its face to be genuine and appears to relate to the employee, employers should accept the EAD as a valid “List A” document and should not ask for additional Form I-9 documentation. This action by the Secretary of Homeland Security through this Federal Register Notice does not affect the right of an applicant for employment or an employee to present any legally acceptable document as proof of identity and eligibility for employment.

Employers are reminded that the laws requiring employment eligibility verification and prohibiting unfair immigration-related employment practices remain in full force. This Notice does not supersede or in any way limit applicable employment verification rules and policy guidance, including those setting forth re-verification requirements. See 8 CFR 274a.2(b)(1)(vii) (employers re-verification requirements). For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

How May Employers Determine an Employee's Eligibility for Employment Once the Automatic Extension Has Expired, Between March 17, 2007, and the End of the TPS Extension on March 17, 2008?

TPS beneficiaries who successfully re-register will possess an EAD with an expiration date of March 17, 2008. This EAD must be accepted for the purposes of verifying identity and employment authorization. Employers are reminded that the laws requiring employment eligibility verification and prohibiting unfair immigration-related employment practices remain in full force, as described above.

What Can an Employee Present to an Employer for Purposes of Completing Form I-9, Employment Eligibility Verification?

During the first six months of this extension of the TPS designation for Somalia, employees may submit the following to their employer for completion of the Form I-9 at the time of hire or re-verification. Qualified individuals who have received a six-month extension of their EADs by virtue of this Federal Register Notice may present a TPS-based EAD to their employer, as described above as proof of identity and employment authorization until March 17, 2007. To minimize confusion over this extension at the time of hire or re-verification, qualified individuals may also present a copy of this Federal Register Notice regarding the automatic extension of employment authorization documentation to March 17, 2007.

After the first six months of this designation extension, employees may present a new EAD valid through March 17, 2008.

As an alternative to the aforementioned options, any legally acceptable document or combination of documents listed in List A, List B, or List C of the Form I-9 may be presented as proof of identity and employment eligibility; it is the choice of the employee.

Does TPS Lead to Lawful Permanent Residence?

No. TPS is a temporary benefit that does not lead to lawful permanent residence by itself or confer any other immigration status. 8 U.S.C. 1254a(e), (f)(1), (h). When a country's TPS designation is terminated, TPS beneficiaries will maintain the same immigration status they held prior to TPS (unless that status has since expired or been terminated), or any other status they may have acquired while registered for TPS. Accordingly, if an alien held no lawful immigration status prior to being granted TPS and did not obtain any other status during the TPS period, he or she will revert to unlawful status upon the termination of the TPS designation. Once the Secretary determines that a TPS designation should be terminated, aliens who had TPS under that designation are expected to plan for their departure from the United States and may wish to apply for other immigration benefits for which they may be eligible.

May I Apply for Another Immigration Benefit While Registered for TPS?

Yes. Registration for TPS does not prevent you from applying for another non-immigrant status, from filing for adjustment of status based on an immigrant petition, or from applying for any other immigration benefit or protection. 8 U.S.C. 1254a(a)(5). For the purposes of change of status and adjustment of status, an alien is considered as being in, and maintaining, lawful status as a nonimmigrant during the period in which the alien is granted TPS. 8 U.S.C. 1254a(f)(4).

How Does an Application for TPS Affect my Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii), 1254a(c)(2)(B)(ii).

Does This Extension Allow Nationals of Somalia (or Aliens Having No Nationality Who Last Habitually Resided in Somalia) Who Entered the United States after September 4, 2001, to File for TPS?

No. This is a Notice of an extension of TPS, not a Notice of re-designation of TPS for Somalia. An extension of TPS does not change the required dates of continuous residence and continuous physical presence in the United States. This extension does not expand TPS eligibility beyond the current TPS requirements for the Somalia designation. To be eligible for TPS benefits under this extension, nationals of Somalia (or aliens having no nationality who last habitually resided in Somalia) must have been continuously physically present and continuously resided in the United States since September 4, 2001.

What is Late Initial Registration?

Some persons may be eligible for late initial registration under 8 U.S.C. 1254a(c)(1)(A)(iv) and 8 CFR 244.2(f)(2) and (g). In order to be eligible for late initial registration an applicant must:

(1) Be a national of Somalia (or an alien who has no nationality and who last habitually resided in Somalia);

(2) Have continuously resided in the United States since September 4, 2001;

(3) Have been continuously physically present in the United States since September 4, 2001; and

(4) Be both admissible as an immigrant, except as provided under section 244(c)(2)(A) of the Act, and not ineligible under section 244(c)(2)(B) of the Act.

Additionally, the applicant must be able to demonstrate that during the registration period for the re-designation (from September 4, 2001 to September 17, 2002), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration no later than 60 days after the expiration or termination of the conditions described above. 8 CFR 244.2(g). All late initial registration applications pursuant to the TPS designation of Somalia should be submitted to the aforementioned Lockbox address in Chicago, Illinois listed under Category 2.

What Happens When This Extension of TPS Expires on March 17, 2008?

At least 60 days before this extension of Somalia's TPS designation expires on March 17, 2008, the Secretary, after consultation with appropriate agencies of the Government, will review conditions in Somalia and determine whether the conditions for TPS designation continue to be met at that time, or whether the TPS designation should be terminated. 8 U.S.C. 1254a(b)(3). Notice of that determination, including the basis for the determination, will be published in the Federal Register.

Notice of Extension of Designation of TPS for Somalia

By the authority vested in the Secretary of Homeland Security under section 244 of the Act, the Secretary has determined, after consultation with the appropriate Government agencies, that the conditions that prompted designation of Somalia for TPS continue to be met. Accordingly, the Secretary orders as follows:

(1) The TPS designation of Somalia is extended for an additional 18-month period from September 17, 2006, to March 17, 2008. 8 U.S.C. 1254a(b)(1)(A); 1254a(b)(1)(C); 1254a(b)(3)(C).

(2) There are approximately 250 nationals of Somalia (or aliens having no nationality who last habitually resided in Somalia) who have been granted TPS and who may be eligible for re-registration.

(3) To maintain TPS, a national of Somalia (or an alien having no nationality who last habitually resided in Somalia) who was granted TPS and who has not had TPS withdrawn must re-register for TPS during the 60-day re-registration period from July 27, 2006 until September 25, 2006.

(4) To re-register, aliens must follow the aforementioned filing procedures set forth in this Notice.

Information concerning the extension of the designation of Somalia for TPS will be available at local USCIS offices upon publication of this Notice and on the USCIS Web site at http://www.uscis.gov.

Dated: July 13, 2006.
Michael Chertoff,
Secretary.

[FR Doc. 06-6401 Filed 7-26-06; 8:45 am]

BILLING CODE 4410-10-P